DEPARTMENT OF THE INTERIOR

Bureau of Indian Affairs

Renewal of Agency Information Collection for Tribal Self-Governance Program

AGENCY: Bureau of Indian Affairs, Interior.

ACTION: Notice of submission to OMB.

SUMMARY: In compliance with the Paperwork Reduction Act of 1995, the Assistant Secretary—Indian Affairs is submitting to the Office of Management and Budget (OMB) a request for renewal for the collection of information for Tribal Self-Governance Program. The information collection is currently authorized by OMB Control Number 1076-0143, which expires November 30, 2012.

DATE: Interested persons are invited to submit comments on or before December 28, 2012.

ADDRESSES: You may submit comments on the information collection to the Desk Officer for the Department of the Interior at the Office of Management and Budget, by facsimile to (202) 395-5806 or you may send an email to: OIRA_Submission@omb.eop.gov. Please send a copy of your comments to Ken Reinfeld, Office of Self-Governance, 1951 Constitution Avenue NW., Mail Stop 355-G SIB, Washington, DC 20240; email: Ken.Reinfeld@bia.gov.

FOR FURTHER INFORMATION CONTACT: Ken Reinfeld, Senior Policy Analyst, (202) 208-5734. You may review the information collection request online at http://www.reginfo.gov. Follow the instructions to review Department of the Interior collections under review by OMB.

SUPPLEMENTARY INFORMATION:

I. Abstract

The Assistant Secretary—Indian Affairs is seeking comments on the information collection entitled “Tribal Self-Governance Program, 25 CFR 1000,” as we prepare to renew this collection as required by the Paperwork Reduction Act of 1995. The information collected will be used to establish requirements for entry into the pool of qualified applicants for Self-Governance and to meet reporting requirements of the Tribal Self-Governance Act.

II. Request for Comments

The BIA requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it has a valid OMB Control Number.

It is our policy to make all comments available to the public for review at the location listed in the ADDRESSES section. Before including your address, phone number, email address or other personally identifiable information in your comment, you should be aware that your entire comment—including your personal identifying information—may be made publicly available at any time. While you can ask us in your comment to withhold your personal identifying information from public review, we cannot guarantee that we will be able to do so.

III. Data

OMB Control Number: 1076-0143.

Title: Tribal Self-Governance program, 25 CFR 1000.

Brief Description of Collection: The Self-Governance program is authorized by the Tribal Self-Governance Act of 1994, Public Law 103-413 (the Act), as amended. Indian tribes interested in entering into Self-Governance must submit certain information as required by the Act. In addition, those tribes and tribal consortia that have entered into Self-Governance funding agreements will be requested to submit certain information as described in 25 CFR 1000. This information will be used to justify a budget request submission on their behalf and to comport with section 405 of the Act that calls for the Secretary to submit an annual report to the Congress. Responses are required to obtain or retain a benefit or are voluntary, depending upon the part of the program being addressed.

Type of Review: Extension without change of currently approved collection.

Respondents: Federally recognized Indian tribes and tribal consortia participating or wishing to enter into Tribal Self-Governance.

Number of Respondents: 85.

Number of Responses: 94.

Estimated Time per Response: Completion times vary from 15 minutes to 400 hours, with an average of approximately 55 hours.

Frequency of Response: On occasion or annually.

Estimated Total Annual Hour Burden: 4,662 hours.

Estimated Total Annual Cost Burden: $10,500 is the estimated total annual cost burden for tribes and tribal consortia first entering the Self-Governance program; this includes capital and start-up costs to obtain equipment and materials necessary to assume the program and activities for which they are entering the Self-Governance program.

Dated: November 21, 2012.
John T. Ashley,
Acting Assistant Director for Information Resources.

[FR Doc. 2012-28805 Filed 11-27-12; 8:45 am]

BILLING CODE 4310-W8-P